DEPARTMENT OF LABOR

Employment and Training Administration

Proposed Collection; Comment Request

ACTION: Notice.

SUMMARY: The Department of Labor, as part of its continuing effort to reduce paperwork and respondent burden conducts a preclearance consultation program to provide the general public and Federal agencies with an opportunity to comment on proposed and/or continuing collections of information in accordance with the Paperwork Reduction Act of 1995 (PRA95) [44 U.S.C. 3506(c)(2)(A)]. This program helps to ensure that requested data can be provided in the desired format, reporting burden (time and financial resources) is minimized, collection instruments are clearly understood, and the impact of collection requirements on respondents can be properly assessed. Currently, the Employment and Training Administration is soliciting comments concerning the proposed revision of the Center for Employment and Training (CET) Follow-Up Survey. A copy of the proposed information collection request (ICR) can be obtained by contacting the office listed below in the addressee section of this notice.

DATES: Written comments must be submitted to the office listed in the addressee's section below on or before January 12, 2001.

ADDRESSES: Tom NaSell, U.S. Department of Labor, Employment and Training Administration/Office of Policy Research, 200 Constitution Ave., NW., Room N-5629, Washington, DC 20210, (202) 693-3615 (this is not a toll-free number), TNASELL@doleta.gov.

SUPPLEMENTARY INFORMATION:

I. Background

The Center for Employment Training (CET) model of employment and training programs for out-of-school youth has gained national attention as a result of its strong employment impacts relative to comparable programs. Building on this success, the Department of Labor (DOL) began funding the CET Replication Project in December 1992, providing a grant for CET-San Jose, CA to assist other programs in implementing CET-like training. In 1994 DOL competitively awarded grants to select six of these programs in order to evaluate the effects of the CET model on participating youth. Six additional sites have also been selected from among CET programs in California and Nevada. The purpose of this study, A Random Assignment Evaluation of the CET Replication Sites, is to evaluate the CET model in the selected sites to assess whether it can be replicated outside of San Jose, and whether the replication sites have similarly positive employment impacts on out-of-school youth.

In order to assess the success of CET outside of San Jose, DOL has contracted with the Manpower Demonstration Research Corporation (MDRC) to evaluate the CET Replication Project. As part of this evaluation, follow-up information is currently being collected through a long-term follow-up telephone survey conducted approximately 30 months after the random assignment of youth. This information collection was approved under OMB No. 1205-0391, which is due to expire on May 31, 2001. This information collection request would revise the information collection to provide for a second wave of the survey to be completed approximately 54 months after random assignment of all youth.

The 30-Month and 54-Month Follow-Up Surveys will be used to examine the effects of this employment and training program on participants' outcomes two years after beginning the CET training. They will also assess the subsequent outcomes of comparable youth randomly assigned to a control group.

II. Review Focus

The Department of Labor is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submissions of responses.

III. Current Actions

This is a request for OMB approval of a revision of an existing information collection for the CET Replication Project funded by the Department of Labor (DOL). Information in the form of a follow-up phone or in-person survey will be collected from randomly assigned participants at each of the CET Replication Project sites at two points, approximately 30 months following their initial assignment to the program or control groups and again at 54 months after random assignment. The survey data will be utilized to analyze the impact of the CET program on participants' outcomes including education and training, employment, earnings, public assistance participation, childbearing, and other behaviors and activities. The findings will be directly relevant for the future development of employment and training policy for youth.

Type of Review: Revision.

Agency: Employment and Training Administration.

Title: CET Follow-Up Survey.

OMB Number: 1205-0391.

Affected Public: Participants in the CET Replication Project.

Total Respondents: 1,485.

Frequency: Two times.

Total Responses: 2,302.

Average Time per Response: 37 minutes.

Estimated Total Burden Hours: 1,420 hours.

Total Burden Cost (capital/startup): $0.

Total Burden Cost (operating/maintaining): $7,313.

Comments submitted in response to this comment request will be summarized and/or included in the request for Office of Management and Budget approval of the information collection request; they will also become a matter of public record.

Dated: November 3, 2000.
James Woods,
Division Chief, Division of Evaluation & Skills Assessment, Office of Policy and Research.

[FR Doc. 00-28904 Filed 11-9-00; 8:45 am]

BILLING CODE 4510-30-U